DEPARTMENT OF DEFENSE

Office of the Secretary

[Docket ID: DoD-2024-OS-0019]

Proposed Collection; Comment Request

AGENCY: The Office of the Under Secretary of Defense for Personnel and Readiness (OUSD(P&R)), Department of Defense (DoD).

ACTION: 60-Day information collection notice.

SUMMARY: In compliance with the Paperwork Reduction Act of 1995, the OUSD(P&R) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 29, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Defense Human Resources Activity, Defense Language and National Security Education Office, 4800 Mark Center Drive, Suite 08F09-02, Alexandria, VA 22350-7000, Mr. Chase Hall, 703-409-8653.

SUPPLEMENTARY INFORMATION:

Title; Associated Form; and OMB Number: National Security Education Program (Service Agreement Report for Scholarship and Fellowship Awards); DD Form 2752, DD Form 2753; OMB Control Number 0704-0368.

Needs and Uses: The David L. Boren National Security Education Act NSEA, Title VIII of Public Law 102-183, Sec. 802(b), as amended, directs the Secretary of Defense to carry out a program to award undergraduate scholarships and graduate fellowships, as well as grants to U.S. institutions of higher education. Accordingly, the National Security Education Program (NSEP) was established. Both DD Form 2752, “NSEP Service Agreement for Scholarship and Fellowship Awards,” and the DD Form 2753, “NSEP Service Agreement Report SAR for Scholarship and Fellowship Awards,” are designed to appropriately collect information on the NSEP award recipients. This information will be used by the NSEP Office, or designated administrative agents, as verification that applicable scholarship and fellowship recipients are fulfilling service obligations mandated by the David L. Boren National Security Education Act of 1991, Title VIII of Public Law 102-183, as amended.

Affected Public: Individuals or households.

Annual Burden Hours: 275 hours.

Number of Respondents: 1,650.

Responses per Respondent: 1.

Annual Responses: 1,650.

Average Burden per Response: 10 minutes.

Frequency: Annually.

Dated: February 21, 2024.
Aaron T. Siegel,
Alternate OSD Federal Register Liaison Officer, Department of Defense.

[FR Doc. 2024-04003 Filed 2-26-24; 8:45 am]

BILLING CODE 6001-FR-P